DEPARTMENT OF COMMERCE

Foreign-Trade Zones Board

[Docket 18-2000]

Foreign-Trade Zone 106—Oklahoma City, Oklahoma; Application for Subzone, Conoco Inc. (Oil Refinery Complex), Ponca City, Oklahoma

An application has been submitted to the Foreign-Trade Zones Board (the Board) by the Port Authority of the Greater Oklahoma City Area, grantee of FTZ 106, requesting special-purpose subzone status for the oil refinery complex of Conoco Inc., located in Ponca City, Oklahoma. The application was submitted pursuant to the provisions of the Foreign-Trade Zones Act, as amended (19 U.S.C. 81a-81u), and the regulations of the Board (15 CFR part 400). It was formally filed on May 3, 2000.

The refinery complex (185,000 BPD capacity, 119 storage tanks with over 14 million barrels of capacity) is located at 1000 South Pine Street, Ponca City, Oklahoma. The refinery (1,600 acres, 1,855 employees) is used to produce fuels and liquid petroleum gases, including gasoline, jet fuel, distillates, residual fuels, naphthas, motor fuel blendstocks, liquefied petroleum gas, butane, isobutane, and petroleum gases. Refinery by-products include petroleum coke, asphalt and sulfur. Some 10 percent of the crude oil (96 percent of inputs), and some naphthas, virgin gas oil and motor fuel blendstocks are sourced abroad.

Zone procedures would exempt the refinery from Customs duty payments on the foreign products used in its exports. On domestic sales, the company would be able to choose the Customs duty rates that apply to certain petrochemical feedstocks and refinery by-products (duty-free) by admitting incoming foreign crude oil in non-privileged foreign status. The duty rates on inputs range from 5.25 cents/barrel to 10.5 cents/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below. The closing period for their receipt is July 17, 2000. Rebuttal comments in response to material submitted during the foregoing period may be submitted during the subsequent 15-day period to July 31, 2000.

A copy of the application and the accompanying exhibits will be available for public inspection at each of the following locations:

U.S. Department of Commerce, Export Assistance Center, 301 Northwest 63rd Street, Suite 330, Oklahoma City, OK 73116

Office of the Executive Secretary, Foreign-Trade Zones Board, Room 4008, U.S. Department of Commerce, 14th and Pennsylvania Avenue, N.W., Washington, D.C. 20230

Dated: May 7, 2000.
Dennis Puccinelli,
Acting Executive Secretary.

[FR Doc. 00-12208 Filed 5-15-00; 8:45 am]

BILLING CODE 3510-DS-P